DEPARTMENT OF ENERGY

Western Area Power Administration

Washoe Project-Rate Order No. WAPA-160

AGENCY: Western Area Power Administration, DOE.

ACTION: Notice of Proposed Extension of Non-Firm Power Formula Rate.

SUMMARY: This action is a proposal to extend the existing Washoe Project, Stampede Powerplant (Stampede) non-firm power formula rate, Schedule SNF-7, through September 30, 2017. The existing formula rate will expire July 31, 2013.

DATES: By July 31, 2013, Western Area Power Administration (Western) will publish in the Federal Register the final Notice of Extension and Rate Order.

ADDRESSES: All documents that Western used to develop the proposed Stampede non-firm power formula rate extension are available for inspection and copying at the Sierra Nevada Customer Service Region, located at 114 Parkshore Drive, Folsom, CA 95630-4710.

FOR FURTHER INFORMATION CONTACT: Ms. Regina Rieger, Rates Manager, Sierra Nevada Customer Service Region, Western Area Power Administration, 114 Parkshore Drive, Folsom, CA 95630-4710, (916) 353-4629, email: rieger@wapa.gov.

SUPPLEMENTARY INFORMATION: By Delegation Order No. 00-037.00, effective December 6, 2001, the Secretary of Energy delegated: (1) The authority to develop power and transmission rates to Western's Administrator; (2) the authority to confirm, approve, and place such rates into effect on an interim basis to the Deputy Secretary of Energy; and (3) the authority to confirm, approve, and place into effect on a final basis, to remand or to disapprove such rates to the Federal Energy Regulatory Commission (FERC).

FERC confirmed and approved the existing formula rate, contained in Rate Order No. WAPA-136,¹ on a final basis for 5 years through July 31, 2013.² In accordance with 10 CFR 903.23(a), Western proposes to extend the existing Stampede non-firm power formula rate without an adjustment. The formula rate is applied annually after determining Stampede's reimbursable expenses and revenue collected in accordance with the Stampede Energy Exchange Services contract. Since the project has no Federally-owned transmission, the contractor accepts delivery of Stampede generation to serve project use obligations and pays Western for energy received in excess of project use loads. Pursuant to Rate Order No. WAPA-136, any remaining reimbursable expenses are transferred to the Central Valley Project (CVP) for incorporation into the CVP power revenue requirement. The existing formula rate methodology collects annual revenue sufficient to recover annual expenses, including interest, capital requirements, and timely deficit recovery, thus ensuring repayment of the project within the cost recovery criteria set forth in DOE Order RA 6120.2.

¹ 73 FR 42,565 (July 22, 2008).

² See U.S. Dept. of Energy, Western Area Power Admin., Docket No. EF08-5161-000, 127 FERC ¶ 62,043 (2009).

The formula rate provides sufficient revenue to recover all appropriate costs and the affiliated contract remains in effect through December 31, 2024. Western proposes to extend the current rate schedule through September 30, 2017, and will consider further extension as determined necessary. Consistent with 10 CFR 903.23(a) for proposals to extend but not otherwise change existing rates, Western will not hold a consultation and comment period.

Thirty days after this notice is published, Western will take further action on the proposed formula rate extension consistent with 10 CFR part 903.

Dated: February 12, 2013.
Anita J. Decker,
Acting Administrator.

[FR Doc. 2013-04115 Filed 2-21-13; 8:45 am]

BILLING CODE 6450-01-P